DEPARTMENT OF ENERGY

Federal Energy Regulatory Commission

[Docket No. RP03-385-000]

Black Marlin Pipeline Company; Notice of Cash-Out Report

May 5, 2003.

Take notice that on April 30, 2003, Black Marlin Pipeline Company (Black Marlin) hereby tendered for filing its annual cash-out report for the calendar year ended December 31, 2002.

Black Marlin states that copy of this filing has been served to its shippers, State Commissions and other interest parties.

Any person desiring to be heard or to protest said filing should file a motion to intervene or a protest with the Federal Energy Regulatory Commission, 888 First Street, NE., Washington, DC 20426, in accordance with Sections 385.214 or 385.211 of the Commission's Rules and Regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11661 Filed 5-9-03; 8:45 am]

BILLING CODE 6717-01-P